DEPARTMENT OF AGRICULTURE

Submission for OMB Review; Comment Request

April 8, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Classical Swine Fever Status of Chile.

OMB Control Number: 0579-0235.

Summary of Collection: The Animal Health Protection Act (AHPA) of 2002 is the primary Federal law governing the protection of animal health. The law gives the Secretary of Agriculture broad authority to detect, control, or eradicate pests or diseases of livestock or poultry. Veterinary Services, a program within USDA's Animal and Plant Health Inspection Service (APHIS) is responsible for carrying out this disease prevention mission. The agency regulates the importation of animals and animal products into the U.S. to guard against the introduction of exotic animal diseases such as classical swine fever. The regulations under which APHIS conducts these disease prevention activities are contained in Title 9, Chapter 1, Subchapter D, and Part 91 through 99 of the Code of Federal Regulations. These regulations place certain restrictions on the importation of swine, pork and pork products into the U.S.

Need and Use of the Information: Swine, pork, and pork products from specified regions must be accompanied by a certificate issued by a salaried veterinary officer of the Government of Chile. The certificate must identify both the exporting region and the region of origin as a region designated by APHIS as free of classical swine fever at the time the swine, pork, or pork products were in the region.

Description of Respondents: Federal Government.

Number of Respondents: 4.

Frequency of Responses: Reporting: On occasion.

Total Burden Hours: 32.

Animal and Plant Health Inspection Service

Title: Cut Flowers from Countries with Chrysanthemum White Rust.

OMB Control Number: 0579-0271.

Summary of Collection: Under the Plant Protection Act (7 U.S.C. 7701—et.seq.), the Secretary of Agriculture is authorized to prohibit or restrict the importation, entry, or movement of plants and plant pests to prevent the introduction of plant pests into the United States or their dissemination within the United States. The regulations in 7 CFR Part 319 prohibits or restricts the importation of plants, plant parts, and related materials to prevent the introduction of foreign plant pests into the United States. Conditions governing the importation of cut flowers into the United States are contained in “Subpart-Cut Flowers” (§§ 319.74-1 through 319.74-4, referred to as the regulations). The Animal and Plant Health Inspection Service (APHIS) amended the cut flowers regulations to establish specific requirements for the importation of cut flowers that are hosts of Chrysanthemum White Rust (CWR) from countries where the disease is known to occur and to make APHIS' cut flowers and nursery stock regulations consistent. CWR is a serious disease in nurseries where it may cause complete loss of greenhouse chrysanthemum crops.

Need and Use of the Information: APHIS requires that some plants and plant products are accompanied by a phytosanitary inspection certificate that is completed by plant health officials in the originating or transiting country. APHIS uses the information on this certificate to determine the pest condition of the shipment at the time of inspection in the foreign country. The information is used as a guide to the intensity of the inspection that APHIS must conduct when the shipment arrives. Without this information, all shipments would need to be inspected very thoroughly, thereby requiring considerably more time.

Description of Respondents: Business or other for-profit; Federal Government.

Number of Respondents: 1,025.

Frequency of Responses: Reporting: On occasion.

Total Burden Hours: 636.

Ruth Brown,
Departmental Information Collection Clearance Officer.

[FR Doc. 2010-8456 Filed 4-13-10; 8:45 am]

BILLING CODE 3410-34-P